DEPARTMENT OF THE INTERIOR

National Park Service

[NPS-WASO-DPOL-0426-10196; 0004-SYM]

Cancellation of May 8, 2012, Meeting of the Wekiva River System Advisory Management Committee

AGENCY: National Park Service, Interior.

ACTION: Cancellation of meeting.

SUMMARY: In accordance with the Federal Advisory Committee Act, notice is hereby given that the May 8, 2012, meeting of the Wekiva River System Advisory Management Committee previously announced in the Federal Register, April 18, 2012, 77 FR 23277, is cancelled. Instead, members of the Committee will meet on May 8, 2012, solely to share information and discuss preparations for the Wekiva Wild and Scenic River Plan Dedication Ceremony scheduled for May 17, 2012. No advisory committee items will be voted on at this meeting.

FOR FURTHER INFORMATION CONTACT: Jaime Doubek-Racine, DFO, Wekiva Wild and Scenic River, RTCA Program, Florida Field Office, Southeast Region, 5342 Clark Road, PMB #123, Sarasota, Florida 34233, tel. (941) 685-5912.

SUPPLEMENTARY INFORMATION: The scheduled meetings are open to the public. Each scheduled meeting will result in decisions and steps that advance the Wekiva River System Advisory Management Committee towards its objective of managing and implementing projects developed from the Comprehensive Management Plan for the Wekiva Wild and Scenic River. Any member of the public may file with the Committee a written statement concerning any issues relating to the development of the Comprehensive Management Plan for the Wekiva Wild and Scenic River. Before including your address, telephone number, email address, or other personal identifying information in your comments, you should be aware that your entire comment—including your personal identifying information—may be made publicly available at any time. While you can ask us in your comment to withhold your personal identifying information from public review, we cannot guarantee that we will be able to do so. The statement should be addressed to the Wekiva River System Advisory Management Committee, National Park Service, 5342 Clark Road, PMB #123, Sarasota, Florida 34233.

The Wekiva River System Advisory Management Committee was established by Public Law 106-299 to assist in the development of the comprehensive management plan for the Wekiva River System and provide advice to the Secretary in carrying out management responsibilities of the Secretary under the Wild and Scenic Rivers Act (16 U.S.C. 1274). Efforts have been made locally to ensure that the interested public is aware of the meeting dates.

Chick Fagan,
Chief, Office of Policy.

[FR Doc. 2012-11110 Filed 5-7-12; 8:45 am]

BILLING CODE 4312-52-P